ENVIRONMENTAL PROTECTION AGENCY

[EPA-HQ-OAR-2003-0162; FRL-8054-4]

Agency Information Collection Activities: Submissions for OMB Review; Comment Request; EPA Information Collection Request for the Regional Haze Rule; EPA ICR No. 1813.06; OMB Control No. 2060-0421; Correction

AGENCY: Environmental Protection Agency (EPA).

ACTION: Notice correction.

SUMMARY: The EPA published a document in the Federal Register of March 13, 2006, concerning request for comments on a renewal of EPA's Information Collection Request for the Regional Haze Rule. The document contained incorrect dates.

FOR FURTHER INFORMATION CONTACT: General questions concerning today's action should be addressed to Kathy Kaufman, U.S. EPA, Office of Air Quality Policy Division, Mail Code C504-02, Research Triangle Park, NC, 27711, telephone (919) 541-0102, e-mail kaufman.kathy@epa.gov.

Correction

In the Federal Register of March 13, 2006, in FR Document E6-3517, on page 12696, in the second column, correct the “Dates” caption to read:

DATES: Comments must be submitted on or before May 12, 2006.

Dated: March 28, 2006.
Scott Mathias,
Acting Director, Air Quality Policy Division, Office of Air Quality Planning and Standards.

[FR Doc. E6-5020 Filed 4-5-06; 8:45 am]

BILLING CODE 6560-50-P